FEDERAL COMMUNICATIONS COMMISSION

[AU Docket No. 14-252; DA 16-115]

Wireless Telecommunications Bureau Releases Updated List of Reserve-Eligible Nationwide Service Providers in Each PEA for the Broadcast Incentive Auction

AGENCY: Federal Communications Commission.

ACTION: Notice.

SUMMARY: In this document, the Federal Communications Commission's Wireless Telecommunications Bureau (Bureau) updated a list of nationwide providers qualified to bid on reserved spectrum in Auction 1002.

FOR FURTHER INFORMATION CONTACT: Kate Matraves, Wireless Telecommunications Bureau, 202-391-6272, email Catherine.Matraves@fcc.gov or Karen Sprung, Wireless Telecommunications Bureau, 202-418-2762, email Karen.Sprung@fcc.gov.

SUPPLEMENTARY INFORMATION: This is a summary of the Bureau's Public Notice, DA No. 16-115, AU Docket No. 14-252, released February 2, 2016. The full text of this document, including the associated attachment, is available for inspection and copying from 8:00 a.m. to 4:30 p.m. ET Monday through Thursday or from 8:00 a.m. to 11:30 a.m. ET on Fridays in the FCC Reference Information Center, Portals II, 445 12th Street SW., Room CY-A257, Washington, DC 20554. The complete text is also available on the Commission's Web site at http://wireless.fcc.gov, or by using the search function on the ECFS Web page at http://www.fcc.gov/cgb/ecfs/. Alternative formats are available to persons with disabilities by sending an email to FCC504@fcc.gov or by calling the Consumer & Governmental Affairs Bureau at (202) 418-0530 (voice), (202) 418-0432 (TTY).

The Auction 1000 Application Procedures Public Notice included a list of nationwide providers in each Partial Economic Area (“PEA”) qualified to bid on reserved spectrum in the forward auction (Auction 1002). The Commission stated in the Auction 1000 Application Procedures Public Notice that an updated list of nationwide providers qualified to bid on reserved spectrum in Auction 1002 would be issued prior to the FCC Form 175 filing deadline. Parties interested in filing potential corrections were given until November 16, 2015 to do so, and two parties filed.

The Wireless Telecommunications Bureau is releasing the updated list as Attachment 1 to this Public Notice. These updates reflect recently approved transactions and certain corrections requested by Verizon Wireless and T-Mobile,¹ but do not reflect another correction ² or certain changes in methodology requested by T-Mobile.³ PEAs that have been updated are marked in Attachment 1 with an asterisk.

¹ Verizon and T-Mobile each filed corrections to PEAs 69 (Springfield, MA) and 282 (Galesburg, IL) indicating that Verizon is not reserve-eligible in those markets. The Commission agrees and accordingly, these corrections are reflected in Attachment 1.

² T-Mobile claims that Verizon should not be reserve-eligible in PEA 410 (Valentine, NE) based on arguments that Commission staff may not have attributed Alltel of Nebraska to Verizon, and T-Mobile's own calculations of the population covered by Verizon's cellular licenses in Valentine. The Commission notes first that the Commission did attribute Alltel of Nebraska to Verizon in our calculations. Secondly, in our review of the data submitted by T-Mobile, the Commission finds no basis for the inclusion of three additional census blocks in T-Mobile's calculations of the population covered. The Commission finds that Verizon is reserve-eligible in Valentine.

³ T-Mobile disagrees with our previously articulated methodology for determining reserve-eligibility in PEAs in which there is a long-term spectrum lease. T-Mobile also advocates that the population-weighted megahertz number for each service provider in each PEA should be rounded up to the next whole number. These issues are beyond the scope of the corrections process set forth in the last Public Notice.

Federal Communications Commission.
Joel Taubenblatt,
Acting Deputy Bureau Chief, Wireless Telecommunications Bureau.

[FR Doc. 2016-03058 Filed 2-11-16; 8:45 am]

BILLING CODE 6712-01-P